DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for the following projects: (1) Ardmore Transit Center, Southeastern Pennsylvania Transportation Authority (SEPTA), Ardmore, Lower Merion Township, Montgomery County, PA; (2) Charlotte Streetcar Project, City of Charlotte, Charlotte, NC; (3) Cincinnati Streetcar Project, City of Cincinnati, Cincinnati, Hamilton County, OH; (4) Greenville Intermodal Transportation Center, City of Greenville, Greenville, NC; (5) New Kirk Bus Division, Maryland Transit Administration, Baltimore City, MD; (6) Mid-City/Exposition Corridor Light Rail Transit Project, Los Angeles County Metropolitan Transportation Authority (LACMTA), Los Angeles, CA; (7) Moline Multimodal Station, Rock Island County Metropolitan Mass Transit District (MetroLINK), Moline, IL; (8) North White Plains Parking Garage Project, Metropolitan Transportation Authority Metro-North Railroad, White Plains, NY. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation project will be barred unless the claim is filed on or before January 30, 2012.

FOR FURTHER INFORMATION CONTACT: Adam Stephenson, Environmental Protection Specialist, Office of Planning and Environment, 202-366-5183, or Christopher Van Wyk, Attorney-Advisor, Office of Chief Counsel, 202-366-1733. FTA is located at 1200 New Jersey Avenue, SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The projects and actions that are the subject of this notice are:

1. Project name and location: Ardmore Transit Center, Ardmore, Lower Merion Township, Montgomery County, PA. Project sponsor: Southeastern Pennsylvania Transportation Authority (SEPTA). Project description: The project is the Ardmore Transit Center, which will be located between, approximately, Station Avenue and the Amtrak Line and Anderson Avenue and the Lower Merion Township Building. The transit center will consist of three main elements: The reconstructed Ardmore Station, located on the site of the existing train station; the parking garage, located on the site of the existing municipal (Athensville) parking lot; and a mixed-use building with below grade parking for tenants, located at the site of the existing SEPTA/Amtrak and municipal parking lots. Final agency actions: Section 106 finding of no historic properties affected; no use of Section 4(f) properties; regional and project-level air quality conformity determination; and a Finding of No Significant Impact (FONSI) dated June 2011. Supporting documentation: Environmental Assessment dated February 2011.

2. Project name and location: Charlotte Streetcar Project, Charlotte, NC. Project sponsor: City of Charlotte. Project description: The project is a conventional in-street-running electric streetcar operating in mixed traffic along a l0-mile corridor, beginning at Rosa Parks Place Community Transit Center, and proceeding through downtown Charlotte to the proposed Charlotte Gateway Station, the Charlotte Transportation Center, and finally to the Eastland Community Transit Center. A streetcar vehicle maintenance facility will be constructed in a future phase of the project. Final agency actions: Section 106 finding of no adverse effect; Section 4(f) de minimis impact determination; regional and project-level air quality conformity; and a Finding of No Significant Impact (FONSI) dated June 22, 2011. Supporting documentation: Draft Environmental Assessment dated March 28, 2011.

3. Project name and location: Cincinnati Streetcar Project, Cincinnati, OH. Project sponsor: City of Cincinnati. Project description: The project is a streetcar system that will include one set of at-grade tracks placed along 3.1 miles of city streets, along with 16 new stops with shelters. The project also includes four traction power stations and a maintenance and storage facility. Final agency actions: a Section 106 Memorandum of Agreement; no use of Section 4(f) properties; project-level air quality conformity; and a Finding of No Significant Impact (FONSI) dated June 2011. Supporting documentation: Environmental Assessment dated March 2011 and Supplemental Environmental Assessment dated May 2011.

4. Project name and location: Greenville Intermodal Transportation Center, Greenville, NC. Project sponsor: City of Greenville. Project description: The project will construct an intermodal transportation center (ITC) in downtown Greenville. The project would include a two-story transfer center with space for public areas, ticketing services, support facilities, small retail areas, covered bus bays, limited automobile parking, taxi waiting space, and space for regional bus services. Final agency actions: a Section 106 Memorandum of Agreement; Section 4(f) determination; and a Finding of No Significant Impact (FONSI) dated June 2011. Supporting documentation: Environmental Assessment dated April 2011.

5. Project name and location: New Kirk Bus Division, Baltimore City, MD. Project sponsor: Maryland Transit Administration. Project description: The project is to expand and modernize the existing Kirk Division bus garage and maintenance facility. Final agency actions: Section 106 finding of no historic properties affected; no use of Section 4(f) properties; and a Finding of No Significant Impact (FONSI) dated April 2011. Supporting documentation: Environmental Assessment dated March 2011.

6. Project name and location: Mid-City/Exposition Corridor Light Rail Transit Project, Los Angeles, CA. Project sponsor: Los Angeles County Metropolitan Transportation Authority. Project description: The Mid-City/Exposition Corridor Light Rail Transit Project consists of a light rail system that would run 8.6 miles from 7th Street/Metro Center Station in Downtown Los Angeles to the intersection of Washington and National Boulevards in Culver City. The light rail transit fixed guideway would operate in a dual track configuration mainly at-grade in selected streets or in an exclusive LACMTA-owned Right-of-Way. FTA reviewed information provided by LACMTA on project enhancements proposed since the FTA issued a First Addendum to the Record of Decision (ROD) in March 2009. Since the First Addendum, the project changed to include the addition of the Farmdale Station, which requires construction of a new Dorsey High School staff parking lot. The Farmdale Station and associated parking lot construction were fully evaluated in a Supplemental Environmental Assessment/Finding of No Significant Impact (EA/FONSI). The revised project also includes modification of the Storage and Inspection Facility at Long Beach Avenue. The concept for the Storage and Inspection Facility is similar to the Midday Layover Facility that was originally proposed in the Final Environmental Impact Statement/Environmental Impact Report (EIS/EIR), and would not result in any environmental changes or new potentially significant environmental impacts beyond those evaluated in the Final EIS/EIR. Final agency actions: FONSI, dated November 2010 and the Second Addendum to the ROD signed June 2011. Supporting documentation: Final EIS/EIR dated October 2005; Supplemental EA, dated October 2010.

7. Project name and location: Moline Multimodal Station, Moline, IL. Project sponsor: Rock Island County Metropolitan Mass Transit District (MetroLINK). Project description: The project is to construct a Multimodal Station in Moline, IL, which includes the adaptive re-use of a six-story warehouse located at 1201 4th Avenue. Final agency actions: Section 106 finding of no adverse effect; de minimis impact to Section 4(f) properties; and Documented Categorical Exclusion and FTA Findings dated June 2011. Supporting documentation: Documented Categorical Exclusion and FTA Findings dated June 2011.

8. Project name and location: North White Plains Parking Garage Project, White Plains, NY. Project sponsor: Metropolitan Transportation Authority Metro-North Railroad. Project description: The project is to construct an approximately 500-space, five-story parking garage to accommodate the future long-term ridership growth and demand for parking at the North White Plains railroad station. The parking garage would be located on a 0.854-acre property owned by Metro-North located at 50 Harlem Avenue. Final agency actions: Section 106 finding of no effect; no use of Section 4(f) properties and a Finding of No Significant Impact (FONSI) dated June 2011. Supporting documentation: Environmental Assessment dated January 2010.

Issued on: July 27, 2011.
Elizabeth S. Riklin,
Deputy Associate Administrator for Planning and Environment, Washington, DC.

[FR Doc. 2011-19434 Filed 8-1-11; 8:45 am]

BILLING CODE